DEPARTMENT OF THE TREASURY

Alcohol and Tobacco Tax and Trade Bureau

27 CFR Part 9

[Docket No. TTB-2015-0005; Notice No. 149A; Re: Notice No. 149]

RIN 1513-AC14

Proposed Establishment of the Lewis-Clark Valley Viticultural Area and Realignment of the Columbia Valley Viticultural Area; Comment Period Reopening

AGENCY: Alcohol and Tobacco Tax and Trade Bureau, Treasury.

ACTION: Notice of proposed rulemaking; Reopening of comment period.

SUMMARY: The Alcohol and Tobacco Tax and Trade Bureau (TTB) is reopening the comment period for Notice No. 149, which concerned the proposed establishment of the approximately 306,650-acre “Lewis-Clark Valley” viticultural area in portions of Nez Perce, Lewis, Clearwater and Latah Counties in Idaho and Asotin, Garfield, and Whitman Counties in Washington. Notice No. 149 also proposed to modify the boundary of the existing Columbia Valley viticultural area to eliminate a potential overlap with the proposed Lewis-Clark Valley viticultural area. This reopening of the comment period solicits comments from the public on issues that were raised in public comments received in response to Notice No. 149.

DATES: For Notice No. 149, the proposed rule which published on April 14, 2015 (80 FR 19901), written comments are now due on or before November 27, 2015.

ADDRESSES: Please send your comments on this proposal to one of the following addresses:

• http://www.regulations.gov (via the online comment form for Notice No. 149 as posted within Docket No. TTB-2015-0005 at “Regulations.gov,” the Federal e-rulemaking portal);

• U.S. mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 400, Washington, DC 20005.

See the Public Participation section of Notice No. 149 for specific instructions and requirements for submitting comments, and for information on how to request a public hearing or view or obtain copies of the petition and supporting materials.

You may view copies of the petition, Notice No. 149, selected supporting materials, and all public comments associated with this proposal within Docket No. TTB-2015-0005 at www.regulations.gov. You also may view copies of the petition, Notice No. 149, the supporting materials, and all public comments associated with this proposal by appointment at the TTB Information Resource Center, 1310 G Street NW., Washington, DC 20005. Please call 202-453-2265 to make an appointment.

FOR FURTHER INFORMATION CONTACT: Karen A. Thornton, Regulations and Rulings Division, Alcohol and Tobacco Tax and Trade Bureau, 1310 G Street NW., Box 12, Washington, DC 20005; phone 202-453-1039, ext. 175.

SUPPLEMENTARY INFORMATION: TTB received a petition from Dr. Alan Busacca, a licensed geologist and founder of Vinitas Consultants, LLC, on behalf of the Palouse-Lewis Clark Valley Wine Alliance and the Clearwater Economic Development Association. The petition proposed to establish the approximately 306,650-acre “Lewis-Clark Valley” AVA and to modify the boundary of the existing “Columbia Valley” AVA (27 CFR 9.74). The proposed Lewis-Clark Valley AVA is located at the confluence of the Snake River and the Clearwater River and covers portions of Nez Perce, Lewis, Clearwater, and Latah Counties in northern Idaho and Asotin, Garfield, and Whitman Counties in southeastern Washington.

A small portion of the proposed Lewis-Clark Valley AVA would, if established, overlap the southeastern corner of the established Columbia Valley AVA. To eliminate the potential overlap, the petitioner proposed to modify the boundary of the Columbia Valley AVA so that the overlapping area (hereinafter referred to as the “proposed realignment area”) would be solely within the proposed Lewis-Clark Valley AVA. The proposed modifications would reduce the size of the approximately 11,370,320-acre Columbia Valley AVA boundary by approximately 57,020 acres.

TTB published Notice No. 149 in the Federal Register on April 14, 2015 (80 FR 19901). In Notice No. 149, TTB described the characteristics of the proposed Lewis-Clark Valley AVA and the rationale for the modification of the boundary of the Columbia Valley AVA and solicited public comment on the proposals. The comment period closed June 15, 2015.

During the comment period, TTB received a comment from a vineyard owner within the proposed realignment area. According to the commenter, his vineyard is the estate vineyard for a winery that is also located within the proposed realignment area. The commenter stated that the proposed realignment area has characteristics similar to those of the Columbia Valley and should not be removed from that AVA. Specifically, the commenter stated, “The geology, soils, and climate of the proposed Lewis-Clark Valley AVA are quite similar to those of the Columbia Valley and mostly lay within the elevations affected by the Missoula floods.” The comment is posted as Comment 35 within Docket No. TTB-2015-0005 at www.regulations.gov.

Determination To Re-Open the Public Comment Period

TTB reviewed all comments received in response to Notice No. 149 with reference to the original petition information. TTB believes that the comment period for Notice No. 149, which was open for 60 days, was adequate to obtain information on the initially proposed regulation. However, TTB notes that if the proposed realignment area were to be removed from the Columbia Valley AVA and placed into the proposed Lewis-Clark Valley AVA, wines made primarily from grapes grown within the proposed realignment area would no longer be eligible to be labeled with the “Columbia Valley” appellation of origin. Therefore, because of the potential effect on label holders if TTB were to adopt the proposed modification of the Columbia Valley AVA boundary, TTB has determined that it would be appropriate in this instance to re-open the comment period, for the specific purpose of obtaining further public comment on the proposed boundary modification, before taking any further regulatory action on this matter.

TTB is, therefore, re-opening the comment period on Notice No. 149 for an additional 30 days, in order to obtain additional comments on the characteristics of the proposed realignment area. Comments on Notice No. 149 are now due on or before November 27, 2015. TTB is specifically interested in comments on whether the evidence provided in the petition to establish the proposed Lewis-Clark Valley AVA and to modify the boundary of the Columbia Valley AVA adequately demonstrates that the characteristics of the proposed realignment area are more similar to those of the rest of the proposed Lewis-Clark Valley AVA than to the distinguishing features of the Columbia Valley AVA, which are described in T.D. TTB-ATF 190 (69 FR 44897, November 13, 1984) and summarized in both the proposed Lewis-Clark Valley AVA petition and Notice No. 149. Please provide any available specific information in support of your comments.

How To Comment

See the Public Participation section of Notice No. 149 for specific instructions and requirements for submitting comments, and for information on how to request a public hearing or view or obtain copies of the petition and supporting materials.

You may view copies of the petition, Notice No. 149, selected supporting materials, and all public comments associated with this proposal within Docket No. TTB-2015-0005 at www.regulations.gov. You also may view copies of all comments and documents associated with Notice No. 149 by appointment at the TTB Information Resource Center, 1310 G Street NW., Washington, DC 20005. Please call 202-453-2265 to make an appointment.

Drafting Information

Karen A. Thornton of the Regulations and Rulings Division drafted this document.

Signed: October 21, 2015.
John J. Manfreda,
Administrator.

[FR Doc. 2015-27362 Filed 10-26-15; 8:45 am]

BILLING CODE 4810-31-P